DEPARTMENT OF HOMELAND SECURITY

Federal Emergency Management Agency

[Docket ID: FEMA-2018-0004; OMB No. 1660-0085]

Agency Information Collection Activities: Submission for OMB Review; Comment Request; Crisis Counseling Assistance and Training Program

AGENCY: Federal Emergency Management Agency, DHS.

ACTION: Notice and request for comments.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before May 2, 2018.

ADDRESSES: Submit written comments on the proposed information collection to the Office of Information and Regulatory Affairs, Office of Management and Budget. Comments should be addressed to the Desk Officer for the Department of Homeland Security, Federal Emergency Management Agency, and sent via electronic mail to dhsdeskofficer@omb.eop.gov.

FOR FURTHER INFORMATION CONTACT: Requests for additional information or copies of the information collection should be made to Director, Information Management Division, 500 C Street SW, Washington, DC 20472, email address FEMA-Information-Collections-Management@fema.dhs.gov or Jennifer Voorhies, Lead, Community Services Individual Assistance/Recovery, jennifer.voorhies@fema.dhs.gov.

SUPPLEMENTARY INFORMATION: This proposed information collection previously published in the Federal Register on January 30, 2018 at 83 FR 4234 with a 60 day public comment period. One comment was received and FEMA modified the collection accordingly. Specifically, FEMA proposed to remove the option A from question 8 on the CCP/ISP Crisis Counseling Assistance and Training Program, Immediate Services Program Application/FEMA Form 003-0-1 and option A from question 12 on the CCP/RSP Crisis Counseling Assistance and Training Program, Regular Services Program Application/FEMA Form 003-0-2. FEMA is now proposing to only remove option A from question 8 on the CCP/ISP Crisis Counseling Assistance and Training Program, Immediate Services Program Application/FEMA Form 003-0-1. The removal of this option from the CCP/ISP Crisis Counseling Assistance and Training Program, Immediate Services Program Application/FEMA Form 003-0-1 will result in a minor hour burden reduction of 1.9 hours.

FEMA is also providing a clarification to both the ISP and RSP applications by modifying the first sentence in option B from question 8 on the CCP/ISP Crisis Counseling Assistance and Training Program, Immediate Services Program Application/FEMA Form 003-0-1 and option B from question 12 on the CCP/RSP Crisis Counseling Assistance and Training Program, Regular Services Program Application/FEMA Form 003-0-2 to include “local” service areas. The first sentence will now say: Use the following table to estimate the impacted population for each requested service area (county, parish, tribal land, local, etc.). This addition is a minor clarifying change and will result in no additional burden hours.

The purpose of this notice is to notify the public that FEMA will submit the information collection abstracted below to the Office of Management and Budget for review and clearance.

Collection of Information

Title: Crisis Counseling Assistance and Training Program.

Type of Information Collection: Revision of a currently approved information collection.

OMB Number: 1660-0085.

FEMA Forms: FEMA Form 003-0-1, Crisis Counseling Assistance and Training Program, Immediate Services Program Application; FEMA Form 003-0-2, Crisis Counseling Assistance and Training Program, Regular Services Program Application; SF-424, Application for Federal Assistance; SF-424A, Budget Information for Non-Construction Programs; SF-425, Federal Financial Report; HHS Checklist/08-2007; HHS Project Performance Site Location Form; ISP report narrative; Quarterly Report Narratives; Final RSP Report Narrative.

Abstract: The CCP consists of two grant programs, the Immediate Services Program (ISP) and the Regular Services Program (RSP). The ISP and the RSP provide supplemental funding to States, U.S. Territories, and Federally recognized Tribes following a Presidentially-declared disaster. The grant programs provide funding for Training and Services, including community outreach, public education, and counseling techniques. States are required to submit an application that provides information on Needs Assessment, Plan of Service, Program Management, and an accompanying Budget.

Affected Public: State, local or Tribal government.

Estimated Number of Respondents: 150.

Estimated Number of Responses: 165.

Estimated Total Annual Burden Hours: 1513.1.

Estimated Total Annual Respondent Cost: $116,160.

Estimated Respondents' Capital and Start-Up Costs: $0.

Estimated Total Annual Cost to the Federal Government: $120,735.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: March 27, 2018.
Rachel Frier,
Records Management Branch Chief, Office of the Chief Administrative Officer, Mission Support, Federal Emergency Management Agency, Department of Homeland Security.

[FR Doc. 2018-06588 Filed 3-30-18; 8:45 am]

BILLING CODE 9111-23-P